DEPARTMENT OF LABOR

Mine Safety and Health Administration

30 CFR Parts 70, 75, and 90

RIN 1219-AB14

Verification of Underground Coal Mine Operators' Dust Control Plans and Compliance Sampling for Respirable Dust

Correction

In proposed rule document 03-3941 beginning on page 10784 in the issue of Thursday, March 6, 2003, make the following corrections:

1. On page 10794, in the first column, in the second paragraph, in the ninth line, “[(10.0%+7.2%+16.1%)3=11.1%]”, should read “[(10.0%+7.2%+16.1%)÷3=11.1%]”.

2. On page 10795, the table heading should have appeared as follows: “Table III-1. For Two Scenarios, Using Alternate Methods, Percent of Quartz in Respirable Dust”.

3. On page 10803, in the third column, the fourth line from the bottom, “(2.6mg/m³4)”, should read “(2.6 mg/m³÷4)”.

4. On page 10816, in the second column, in footnote number nine, in the last line, “P(X>) 10”, should read “P(X>10)”.

5. On page 10839, in the first column, the heading “3. Biological Respirable Coal Mine Dust”, should read “3. Biological Action: Respirable Coal Mine Dust”.

6. On page 10842, in the table, in the first column, under “Studies”, in the first line, “Hansen, et al.,”, should read “Hansen, et al., 1999”.

7. On page 10849, in the second column, in the 20th line, “(MSHA, datafile: RBDA2001.ZIP)”, should read “(MSHA, datafile: RB-DA2001.ZIP)”.

8. On page 10853, in the first column, the first equation within the footnotes is corrected to read as follows:

λ′ = Py′ − Px′

9. On page 10857, Table IX-2-2 is corrected to read as set forth below

Table IX-2-2.—Estimated Number of Affected Mechanized Mining Units ᵃ (MMUs) and Affected Underground Coal Miners, by Production Shifts and Mine Size
Mine size by number of employees: Number of production shifts | Mine size by number of employees: Less than 20 employees: NMUs n= | Mine size by number of employees: Less than 20 employees: DOS ᵇ n= | Mine size by number of employees: Less than 20 employees: NDOs ᶜ n= | Mine size by number of employees: 20 to 500 employees: MMUs n= | Mine size by number of employees: 20 to 500 employees: DOs ᵇ n= | Mine size by number of employees: 20 to 500 employees: NDOs ᶜ n= | Mine size by number of employees: Greater than 500 employees: MMUs n= | Mine size by number of employees: Greater than 500 employees: DOs ᵇ n= | Mine size by number of employees: Greater than 500 employees: NDOs ᶜ n= | Totals: MMUs n= | Totals: DOs ᵇ n= | Totals: NDOs ᶜ n= | Totals: Total affected miners on MMUs
One | 98 | 98 | 588 | 24 | 24 | 144 | 0 | 0 | 0 | 122 | 122 | 732 | 854
Two | 16 | 32 | 192 | 264 | 528 | 3,168 | 0 | 0 | 0 | 280 | 560 | 3,360 | 3,920
Three | 0 | 0 | 0 | 55 | 165 | 990 | 18 | 54 | 324 | 73 | 219 | 1,314 | 1,533
Totals | 114 | 130 | 780 | 343 | 717 | 4,302 | 18 | 54 | 324 | 475 | 901 | 5,406 | 6,307
ᵃ Affected MMUs in production are estimated by applying the observed percentage of MMUs' production shifts by mine size (as of July 10, 2002) to the snapshot of active MMUs as of May 14, 2002, by mine size, and multiplied by 0.570 (since fifty-seven percent of MMUs have a pattern of recurrent overexposures) (MSHA Table, July 10, 2002; MSHA Table, May 14, 2002).
Where:
ᵇ DO = Designated Occupational Miners = (MMUs * 1 * production shifts).
ᶜ NDO = Non-designated Occupational Miners = (MMUs * 6 * production shifts).

10. On page 10860, in the first table, in the eighth column, under “Prevented cases, n=”, in the second line, “3.18”, should read “3.8”.

[FR Doc. C3-3941 Filed 3-28-03; 8:45 am]

BILLING CODE 1505-01-D